DEPARTMENT OF TRANSPORTATION

Federal Highway Administration

[Docket No. FHWA-2018-0028]

Agency Information Collection Activities: Request for Comments for the Renewal of a Previously Approved Information Collection

AGENCY: Federal Highway Administration (FHWA), DOT.

ACTION: Notice and request for comments.

SUMMARY: In compliance with the Paperwork Reduction Act (PRA) of 1995, this notice announces that FHWA will submit the collection of information described below to the Office of Management and Budget (OMB) for review and comment. The Federal Register Notice with a 60-day comment period soliciting comments on the following collection of information was published on January 23, 2018. The PRA submission describes the nature of the information collection and its expected cost and burden.

DATES: Please submit comments by May 25, 2018.

ADDRESSES: You may submit comments identified by DOT Docket ID 2018-0028 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Mr. Peter Clark, 703-404-6306, Realty Specialist, FHWA-HEPR-10, Federal Highway Administration, Department of Transportation, 1200 New Jersey Ave., Washington DC. Office hours are from 7:30 a.m. to 4:00 p.m., Monday through Friday, except Federal holidays.

SUPPLEMENTARY INFORMATION:

Title: “Right-of-Way Cost Estimation Processes; State of the Practice”.

Government agencies that acquire real property for a Federal-aid highway program typically consider the cost of many alternatives for a potential project. As a part of this consideration, estimates of the cost of right-of-way needed for potential highway alignments must be determined and documented. Agencies may use several different methods to determine the estimate and document these costs. The methods range from a process using only paper and pencil, all the way to a process utilizing Geographic Information System (GIS) mapping and electronic data capture methods. The electronic methods presumably include an electronic calculation method which tabulates and calculates total costs, area to be acquired, and the numbers of relocations of residential and business property owners and tenants. Utilizing the paper-based method necessarily requires manual collection, organization and calculation which are likely expensive and inefficient, both in terms of dedicated staff time and dollars spent.

Respondents: Each State DOT will be asked to respond, as well as a limited number (5-10) of local government agencies that have large and complex transportation programs. Each invited agency will be asked to respond to a one-time survey containing questions about the agency's ROW cost estimation process and management.

Frequency: There will be one survey only.

Estimated Average Burden per Response: Approximately 8-16 person-hours to fully and accurately respond to the survey, depending on the size and complexity of an individual agency's transportation program.

Estimated Total Annual Burden Hours: Approximately 900 hours. (This is the estimated total burden, for approximately 60 State and local government transportation agencies to respond to a single survey.)

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: April 19, 2018.
Michael Howell,
FHWA Information Collection Officer.

[FR Doc. 2018-08651 Filed 4-24-18; 8:45 am]

BILLING CODE 4910-13-P